DEPARTMENT OF TRANSPORTATION

Federal Aviation Administration

Seventh Meeting: RTCA Special Committee 228—Minimum Operational Performance Standards for Unmanned Aircraft Systems

AGENCY: Federal Aviation Administration (FAA), U.S. Department of Transportation (DOT).

ACTION: Notice of RTCA Special Committee 228—Minimum Operational Performance Standards for Unmanned Aircraft Systems.

SUMMARY: The FAA is issuing this notice to advise the public of the seventh meeting of RTCA Special Committee 228—Minimum Operational Performance Standards for Unmanned Aircraft Systems.

DATES: The meeting will be held November 21, 2014 from 9:00 a.m. to 1:00 p.m.

ADDRESSES: The meeting will be held at RTCA, 1150 18th Street NW., Suite 910, Washington, DC 20036.

FOR FURTHER INFORMATION CONTACT: The RTCA Secretariat, 1150 18th Street NW., Suite 910, Washington, DC 20036, or by telephone at (202) 330-0662 or (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of RTCA Special Committee 228—Minimum Operational Performance Standards for Unmanned Aircraft Systems. The agenda will include the following:

Specific Working Group Sessions Before Plenary

All Day, Working Group 1-DAA, MacIntosh-NBAA Room & Colson Board Room.

All Day, Working Group 2-C2, ARINC & Hilton-A4A Rooms

November 21 (starting at 9:00 am)

• Welcome/Introductions/Administrative Remarks/SC-228 Participation Guidelines

• Reading of the Public Announcement by the DFO

• Reading of the RTCA Proprietary References Policy

• Agenda Overview

• Review/Approval of Minutes from Plenary #6 (RTCA Paper No. 183-14/SC228-017) held Thursday, August 28, 2014 at RTCA

• Report from EUROCAE WG-73 on their progress

• Review of RTCA SC-228 Steering Committee Activity

• Report from WG-1 for Detect and Avoid progress on the DAA MOPS

• Report from WG-2 for Command and Control progress on the CNPC MOPS

• Action Item Review

• Other Business

• Date, Place and Time of Next Meeting(s)

• Plenary #8—27 February 2015 @RTCA

• Proposed—Plenary #9—21 May 2015 @ NASA Ames

• Adjourn Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 22, 2014.
Mohannad Dawoud,
Management Analyst, Program Oversight and Administration, ANG-A15, Federal Aviation Administration.

[FR Doc. 2014-25664 Filed 10-28-14; 8:45 am]

BILLING CODE 4910-13-P